DEPARTMENT OF TRANSPORTATION

Federal Aviation Administration

14 CFR Part 39

[Docket No. FAA-2020-1183; Project Identifier 2019-SW-008-AD; Amendment 39-21565; AD 2021-11-03]

RIN 2120-AA64

Airworthiness Directives; Airbus Helicopters

AGENCY: Federal Aviation Administration (FAA), DOT.

ACTION: Final rule.

SUMMARY: The FAA is adopting a new airworthiness directive (AD) for certain Airbus Helicopters Model EC 155B, EC155B1, SA-365N, SA-365N1, AS-365N2, and AS 365 N3 helicopters, as identified in a European Aviation Safety Agency (now European Union Aviation Safety Agency) (EASA) AD. This AD was prompted by a report of an in-flight loss of engine and main gearbox (MGB) cowlings. This AD requires inspecting the MGB fixed cowling front fitting (MGB front fitting), and depending on findings, corrective action. This AD also requires a new modification, which is a terminating action for the inspection, as specified in an EASA AD, which is incorporated by reference. The FAA is issuing this AD to address the unsafe condition on these products.

DATES: This AD is effective July 15, 2021.

The Director of the Federal Register approved the incorporation by reference of certain publications listed in this AD as of July 15, 2021.

ADDRESSES: For EASA material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. For Airbus Helicopters service information, contact Airbus Helicopters, 2701 N Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2020-1183.

Examining the AD Docket

You may examine the AD docket on the internet at https://www.regulations.gov by searching for and locating Docket No. FAA-2020-1183; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Blaine Williams, Aerospace Engineer, Los Angeles ACO Branch, Compliance & Airworthiness Division, 3960 Paramount Blvd., Lakewood, California 90712; telephone (562) 627-5371; email blaine.williams@faa.gov.

SUPPLEMENTARY INFORMATION:

Background

EASA, which is the Technical Agent for the Member States of the European Union, has issued EASA AD 2019-0008, dated January 22, 2019 (EASA AD 2019-0008) to correct an unsafe condition for certain Airbus Helicopters (AH), formerly Eurocopter, Eurocopter France, Aerospatiale, Model EC 155 B, EC 155 B1, SA 365 N, SA 365 N1, AS 365 N2, and AS 365 N3 helicopters.

The FAA issued a notice of proposed rulemaking (NPRM) to amend 14 CFR part 39 by adding an AD that would apply to certain Model EC 155 B, EC155B1, SA-365N, SA-365N1, AS-365N2, and AS 365 N3 helicopters. The NPRM published in the Federal Register on March 5, 2021 (86 FR 12862). The NPRM was prompted by reports of an in-flight loss of engine and MGB cowlings. Subsequent investigations revealed that the MGB cowling attachment fittings failed because of mounting stress in the MGB front fitting and air intake bulkhead. The NPRM proposed to require inspecting and if necessary, replacing the MGB front fitting. The NPRM also proposed to require modifying the MGB front fitting, as specified in an EASA AD.

The FAA is issuing this AD to address failure of an MGB front fitting and subsequent detachment of the MGB or engine cowlings. See EASA AD 2019-0008 for additional background information.

Discussion of Final Airworthiness Directive

Comments

The FAA gave the public the opportunity to participate in developing this final rule. The FAA received no comments on the NPRM or on the determination of the cost to the public.

Conclusion

The FAA reviewed the relevant data and determined that air safety and the public interest require adopting this final rule as proposed.

Related Service Information Under 1 CFR Part 51

EASA AD 2019-0008 requires inspecting the MGB front fittings within 110 flight hours after April 14, 2017 (the effective date of EASA AD 2017-0055, dated March 31, 2017). If there is a discrepancy, the EASA AD requires applicable corrective action(s) before next flight. EASA AD 2019-0008 also requires modification of the MGB fixed cowling attachments within 660 flight hours or 23 months, whichever occurs first, after the effective date described in EASA AD 2019-0008. Accomplishing the modification constitutes a terminating action for the required inspection.

The FAA also reviewed Airbus Helicopters Alert Service Bulletin ASB No. AS365-53.00.62 and ASB No. EC155-53A038, each Revision 0 and dated December 20, 2018 (ASB AS365-53.00.62 and ASB EC155-53A038). ASB AS365-53.00.62 applies to Model AS365-series helicopters. ASB EC155-53A038 applies to Model EC155-series helicopters. This service information specifies replacing the front bracket, inspecting for stress of the MGB fixed cowlings on the radiator bulkhead, and installing an additional locking system.

This material is reasonably available because the interested parties have access to it through their normal course of business or by the means identified in the ADDRESSES section.

Costs of Compliance

The FAA estimates that this AD affects 19 helicopters of U.S. Registry. Labor rates are estimated at $85 per work-hour. Based on these numbers, the FAA estimates that operators may incur the following costs in order to comply with this AD.

Inspecting the MGB front fittings takes about 2 work-hours for an estimated cost of $170 per helicopter and $3,230 for the U.S. fleet. If required, replacing an MGB front fitting takes about 2 work-hours and parts cost about $590 for an estimated total cost of $760 per fitting. Other repairs will take up to 8 work-hours (excluding drying time) and parts will cost a minimal amount for an estimated cost of up to $680 per helicopter.

Modifying the MGB fixed cowling attachments takes about 5 work-hours and parts cost about $630 for an estimated cost of $1,055 per helicopter and $20,045 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-11-03 Airbus Helicopters: Amendment 39-21565; Docket No. FAA-2020-1183; Project Identifier 2019-SW-008-AD.

(a) Effective Date

This airworthiness directive (AD) is effective July 15, 2021.

(b) Affected Airworthiness Directives (ADs)

None.

(c) Applicability

This AD applies to Airbus Helicopters Model EC 155B, EC155B1, SA-365N, SA-365N1, AS-365N2, and AS 365 N3 helicopters, certificated in any category, as identified in European Aviation Safety Agency (now European Union Aviation Safety Agency) (EASA) AD 2019-0008, dated January 22, 2019 (EASA AD 2019-0008).

(d) Subject

Joint Aircraft System Component (JASC) Code: 7110, Engine Cowling System.

(e) Reason

This AD was prompted by a report of an in-flight loss of main gearbox (MGB) and engine cowlings. The FAA is issuing this AD to address a failure of the MGB fixed cowling front fitting, and subsequent MGB cowling or engine cowling detachment, which could result in damage to the helicopter, loss of helicopter control, and possible injury to persons on the ground.

(f) Compliance

Comply with this AD within the compliance times specified, unless already done.

(g) Requirements

Except as specified in paragraph (h) of this AD: Comply with all required actions and compliance times specified in, and in accordance with, EASA AD 2019-0008.

(h) Exceptions to EASA AD 2019-0008

(1) Where EASA AD 2019-0008 refers to April 14, 2017 (the effective date of EASA AD 2017-0055, dated March 31, 2017), this AD requires using the effective date of this AD.

(2) Where EASA AD 2019-0008 refers to its effective date, this AD requires using the effective date of this AD.

(3) Where EASA AD 2019-0008 refers to flight hours (FH), this AD requires using hours time-in-service.

(4) Where EASA AD 2019-0008 requires the modification within 660 flight hours or 23 months, whichever occurs first, this AD requires the modification within 660 hours time-in-service instead.

(5) Although the service information referenced in EASA AD 2019-0008 specifies to discard certain parts, this AD requires removing those parts from service instead.

(6) Where the service information referenced in EASA AD 2019-0008 specifies to use tooling, equivalent tooling may be used.

(7) The “Remarks” section of EASA AD 2019-0008 does not apply to this AD.

(8) Where paragraph (1) of EASA AD 2019-0008 states to, “inspect the MGB fixed cowling front fittings in accordance with the instructions of paragraph 1.E.2 of the applicable inspection ASB or in accordance with the instructions of the applicable modification ASB,” this AD requires determining if Airbus Helicopters Alert Service Bulletin No. 53.00.55, Revision 0, dated March 13, 2017, or Revision 1, dated December 20, 2018, has or has not been complied with and following the instructions, “For helicopters on which ALERT SERVICE BULLETIN No. 53.00.55 has not been complied with” or “For helicopters on which ALERT SERVICE BULLETIN No. 53.00.55 has been complied with,” as applicable, in paragraph 1.E.2, of Airbus Helicopters Alert Service Bulletin ASB No. AS365-53.00.62 or ASB No. EC155-53A038, each Revision 0 and dated December 20, 2018 (ASB AS365-53.00.62 or ASB EC155-53A038), as applicable to your model helicopter.

(9) Where paragraph (2) of EASA AD 2019-0008 states to, “accomplish the applicable corrective action(s) in accordance with paragraph 1.E.2 of the applicable inspection ASB or in accordance with the instructions of the applicable modification ASB,” this AD requires accomplishing the applicable corrective actions by following ASB AS365-53.00.62 or ASB EC155-53A038, as applicable to your model helicopter.

(10) Where paragraph 3.B.2.e.3 of the applicable modification ASB referenced in EASA AD 2019-0008 refers to paragraph 3.B.e.3, this AD requires referring to paragraph 3.B.3 of ASB AS365-53.00.62 or ASB EC155-53A038, as applicable to your model helicopter.

(i) Special Flight Permit

Special flight permits, as described in 14 CFR 21.197 and 21.199, are not allowed.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Blaine Williams, Aerospace Engineer, Los Angeles ACO Branch, Compliance & Airworthiness Division, 3960 Paramount Blvd., Lakewood, California 90712; telephone (562) 627-5227; email blaine.williams@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2019-0008, dated January 22, 2019.

(ii) Airbus Helicopters Alert Service Bulletin ASB No. AS365-53.00.62, Revision 0, dated December 20, 2018.

(iii) Airbus Helicopters Alert Service Bulletin ASB No. EC155-53A038, Revision 0, dated December 20, 2018.

(3) For EASA AD 2019-0008, contact the EASA, Konrad-Adenauer-Ufer 3, 50668 Cologne, Germany; telephone +49 221 8999 000; email ADs@easa.europa.eu; internet www.easa.europa.eu. You may find this EASA AD on the EASA website at https://ad.easa.europa.eu. For Airbus Helicopters service information, contact Airbus Helicopters, 2701 N Forum Drive, Grand Prairie, TX 75052; telephone (972) 641-0000 or (800) 232-0323; fax (972) 641-3775; or at https://www.airbus.com/helicopters/services/technical-support.html.

(4) You may view this service information at the FAA, Office of the Regional Counsel, Southwest Region, 10101 Hillwood Pkwy., Room 6N-321, Fort Worth, TX 76177. For information on the availability of this material at the FAA, call (817) 222-5110. This material may be found in the AD docket on the internet at https://www.regulations.gov by searching for and locating Docket No. FAA-2020-1183.

(5) You may view this material that is incorporated by reference at the National Archives and Records Administration (NARA). For information on the availability of this material at NARA, email fedreg.legal@nara.gov, or go to https://www.archives.gov/federal-register/cfr/ibr-locations.html.

Issued on May 11, 2021.
Lance T. Gant,
Director, Compliance & Airworthiness Division, Aircraft Certification Service.

[FR Doc. 2021-12037 Filed 6-9-21; 8:45 am]

BILLING CODE 4910-13-P